DEPARTMENT OF THE INTERIOR

Bureau of Land Management

Notice of Availability

AGENCY: Bureau of Land Management, Interior and U.S. Forest Service, Department of Agriculture (Joint Lead Agencies).

ACTION: Notice of availability.

SUMMARY: Pursuant to the National Environmental Policy Act of 1969, the Federal Land Policy Management Act of 1976 and other regulatory requirements, the Joint Lead Agencies announce the availability of the Northern San Juan Basin Coal Bed Methane Development Project Draft Environmental Impact Statement (DEIS) for coal bed natural gas development in the northern potion of the San Juan Basin, in La Plata and Achuleta Counties, Colorado. The Joint Lead Agencies have prepared the DEIS to provide agency decision makers and the public with comprehensive environmental impact information on which to base coal bed natural gas development decisions.

DATES: The Joint Lead Agencies will accept written comments on the DEIS for 90 days following the date that the Environmental Protection Agency publishes its notice of availability of the DEIS in the Federal Register.

The Joint Lead Agencies will hold public meetings in Durango, Bayfield and Pagosa Springs, Colorado. The times and dates for these meetings will be announced at least 15 days in advance using local media. The Joint Lead Agencies will notify all parties on this project's mailing list of the dates, times and locations of the meetings and of the timeframes for comment submittal.

ADDRESSES: Please address questions, comments or requests for copies of the DEIS to the Northern San Juan Basin CBM EIS, USDA FS Content Analysis Team, P.O. Box 221150, Salt Lake City, Utah 84122. Electronic comment may be submitted to nbasin-cbm-eis@fs.fed.us. The DEIS is also available on the Internet at http://nsjb-eis.org/.

DEIS comments, including names and street addresses of respondents, will be available for public review at the San Juan Public Lands Center, 15 Burnett Court, Durango, Colorado, during regular business hours (8 a.m. to 4:30 p.m.), Monday through Friday, except holidays.

Individual respondents may request confidentiality. If you wish to withhold your name or street address from public review or from disclosure under the Freedom of Information Act, you must state this prominently at the beginning of your written comment. Such requests will be honored to the extent allowed by law. Anonymous comments will not be considered. All submissions from organizations or businesses, and from individuals identifying themselves as representatives of officials of organizations or businesses, will be made available for public inspection in their entirety.

FOR FURTHER INFORMATION CONTACT: Walt Brown or Jim Powers at the above address, or phone: (970) 385-1304.

SUPPLEMENTARY INFORMATION: The DEIS analyzes industry's gas field development proposal (approximately three hundred new wells) and six other alternatives in a 125,000-acre Study Area in the Northern San Juan Basin of Colorado. The Study Area occupies portions of La Plata and Archuleta Counties, and is bounded on the south by the Southern Ute Reservation and on the west, north and east by the arching line of the base of the Pictured Cliffs sandstone.

The Study Area consists of approximately 7,000 acres of BLM administered land, 49,000 acres of U.S. Forest Service administered land, 9,000 acres of private lands with federal minerals and 60,000 acres of state or privately held (fee) lands with non-federal minerals.

Dated: December 19, 2004.
Mark W. Stiles,
BLM Center Manager/U.S.F.S. Forest Supervisor, San Juan Public Lands Center, Durango, Colorado.

Editorial Note: This document was received at the Office of the Federal Register on May 27, 2004.

[FR Doc. 04-12414 Filed 6-10-04; 8:45 am]

BILLING CODE 4310-JB-P